DEPARTMENT OF EDUCATION

Accrediting Agencies Currently Undergoing Review for the Purposes of Recognition by the U.S. Secretary of Education

AGENCY: Accreditation Group, Office of Postsecondary Education, Department of Education.

ACTION: Call for written third-party comments.

SUMMARY: This notice provides information to members of the public on submitting written comments for accrediting agencies currently undergoing review for purposes of recognition by the Secretary of Education.

FOR FURTHER INFORMATION CONTACT: Herman Bounds, Director, Accreditation Group, Office of Postsecondary Education, U.S. Department of Education, 400 Maryland Avenue SW, Room 270-01, Washington, DC 20202, telephone: (202) 453-7615, or email: herman.bounds@ed.gov.

SUPPLEMENTARY INFORMATION: This request for written third-party comments concerning the performance of accrediting agencies under review by the Secretary of Education is required by § 496(n)(1)(A) of the Higher Education Act (HEA) of 1965, as amended, and pertains to the summer 2021 meeting of the National Advisory Committee on Institutional Quality and Integrity (NACIQI). The meeting date and location have not been determined, but will be announced in a later Federal Register notice. In addition, a later Federal Register notice will describe how to register to provide oral comments at the meeting.

Agencies Under Review and Evaluation: The Department requests written comments from the public on the following accrediting agencies, which are currently undergoing review and evaluation by the Accreditation Group, and which will be reviewed at the Summer 2021 NACIQI meeting.

The agencies are listed by the type of application each has submitted. We have also indicated each agency's current scope of recognition. If any agency requests a change to its scope of recognition, we have identified both the current scope of recognition and the requested scope of recognition.

Applications for Renewal of Recognition

1. Accreditation Commission for Acupuncture and Oriental Medicine. Scope of recognition: The accreditation and pre-accreditation (“Candidacy”) throughout the United States of professional non-degree and graduate degree programs, including professional doctoral programs, in the field of acupuncture and/or Oriental medicine, as well as freestanding institutions and colleges of acupuncture and/or Oriental medicine that offer such programs.

2. Accrediting Bureau of Health Education Schools. Scope of recognition: The accreditation of private, postsecondary institutions in the United States offering predominantly* allied health education programs leading to a certificate, diploma, and degrees at the level of the Associate of Applied Science, Associate of Occupational Science, Academic Associate, Baccalaureate and Master's; and the programmatic accreditation of medical assisting, medical laboratory technology, and surgical technology programs, through the Associate degree, including those offered via distance education. The scope extends to the Substantive Change Committee, jointly with the Commission, for decisions on substantive change.

3. Commission on Accrediting of the Association of Theological Schools. Scope of recognition: The accreditation of theological schools and seminaries, as well as schools or programs that are parts of colleges or universities, in the United States, offering post baccalaureate degrees in professional and academic theological education, including delivery via distance education.

4. Accrediting Commission of Career Schools and Colleges. Scope of recognition: The accreditation of postsecondary, non-degree-granting institutions and degree-granting institutions in the United States, including those granting associate, baccalaureate and master's degrees, that are predominantly organized to educate students for occupational, trade and technical careers, and including institutions that offer programs via distance education.

5. Council on Occupational Education. Scope of recognition: The accreditation and preaccreditation (“Candidacy Status”) throughout the United States of postsecondary occupational education institutions offering non-degree and applied associate degree programs in specific career and technical education fields, including institutions that offer programs via distance education.

6. American Bar Association, Council of the Section of Legal Education and Admissions to the Bar. Scope of recognition: The accreditation throughout the United States of programs in legal education that lead to the first professional degree in law, including those offered via distance education, as well as freestanding law schools offering such programs. This recognition also extends to the Accreditation Committee of the Section of Legal Education (Accreditation Committee) for decisions involving continued accreditation (referred to by the agency as “approval”) of law schools.

7. American Psychological Association, Commission on Accreditation. Scope of recognition: The accreditation in the United States of doctoral programs in clinical, counseling, school and combined professional-scientific psychology; doctoral internship programs in health service psychology; and postdoctoral residency programs in health service psychology; and the preaccreditation in the United States of doctoral internship programs in health service psychology; and postdoctoral residency programs in health service psychology.

8. American Osteopathic Association, Commission on Osteopathic College Accreditation. Scope of recognition: The accreditation and preaccreditation (“Provisional Accreditation”) throughout the United States of freestanding, public and private non-profit institutions of osteopathic medicine and programs leading to the degree of Doctor of Osteopathy or Doctor of Osteopathic Medicine.

9. Transnational Association of Christian Colleges and Schools, Accreditation Commission. Scope of recognition: The accreditation and preaccreditation (“Candidate” status) of Christian postsecondary institutions in the United States that offer certificates, diplomas, and associate, baccalaureate, and graduate degrees, including institutions that offer distance education.

10. Accrediting Council for Independent Colleges and Schools. Scope of recognition: The accreditation of private postsecondary institutions offering certificates or diplomas, and postsecondary institutions offering associate, bachelor's, or master's degrees in programs designed to educate students for professional, technical, or occupational careers, including those that offer those programs via distance education.

Submission of Written Comments Regarding a Specific Accrediting Agency Under Review:

Written comments about the recognition of any of the accrediting listed above must be received by September 12, 2020 in the ThirdPartyComments@ed.gov mailbox and include the subject line “Written Comments: (agency name).” The email must include the name(s), title, organization/affiliation, mailing address, email address, and telephone number of the person(s) making the comment. Comments should be submitted as a Microsoft Word document or in a medium compatible with Microsoft Word (not a PDF file) that is attached to an electronic mail message (email) or provided in the body of an email message. Comments about an agency that has submitted a petition for initial recognition, renewal of recognition, or an expansion of scope must relate to the agency's compliance with the Criteria for the Recognition of Accrediting Agencies, which are available at http://www.ed.gov/admins/finaid/accred/index.html.

Only written materials submitted by the deadline to the email address listed in this notice, and in accordance with these instructions, become part of the official record concerning agencies scheduled for review and are considered by the Department and NACIQI in their deliberations.

Electronic Access to this Document: The official version of this document is the document published in the Federal Register. Free internet access to the official edition of the Federal Register and the Code of Federal Regulations is available via the Federal Digital System at: www.gpo.gov/fdsys. At this site you can view this document, as well as all other documents of the Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c.

Robert L. King,
Assistant Secretary for Postsecondary Education.

[FR Doc. 2020-17634 Filed 8-11-20; 8:45 am]

BILLING CODE 4000-01-P